NUCLEAR REGULATORY COMMISSION

Governors' Designees Receiving Advance Notification of Transportation of Nuclear Waste

On January 6, 1982 (47 FR 596 and 47 FR 600), the U.S. Nuclear Regulatory Commission (NRC) published in the Federal Register final amendments to 10 CFR parts 71 and 73 (effective July 6, 1982), that require advance notification to Governors or their designees by NRC licensees prior to transportation of certain shipments of nuclear waste and spent fuel. The advance notification covered in part 73 is for spent nuclear reactor fuel shipments and the notification for part 71 is for large quantity shipments of radioactive waste (and of spent nuclear reactor fuel not covered under the final amendment to 10 CFR part 73).

The following list updates the names, addresses, and telephone numbers of those individuals in each State who are responsible for receiving information on nuclear waste shipments. The list will be published annually in the Federal Register on or about June 30 to reflect any changes in information.

Questions regarding this matter should be directed to Rosetta O. Virgilio, Office of State and Tribal Programs, U.S. Nuclear Regulatory Commission, Washington, DC 20555, (Internet Address: rov@nrc.gov) or at (301) 415-2367.

Dated in Rockville, Maryland this 14th day of June 2004.
For the U.S. Nuclear Regulatory Commission.
Paul H. Lohaus,
Director, Office of State and Tribal Programs.

Individuals Receiving Advance Notification of Nuclear Waste Shipments
State | Part 71 | Part 73
Alabama | Colonel W.M. Coppage, Director, Alabama Department of Public Safety, 500 Dexter Avenue, Montgomery, AL 36102-1511, (334) 242-4394, 24 hours: (334) 242-4128. | Same.
Alaska | Douglas Dasher, Alaska Department of Environmental Conservation, Northern Regional Office, 610 University Avenue, Fairbanks, AK 99709-3643, (907) 451-2172, 24 hours: (907) 457-1421. | Same.
Arizona | Aubrey V. Godwin, Director, Arizona Radiation Regulatory Agency, 4814 South 40th Street, Phoenix, AZ 85040, (602) 255-4845, ext. 222, 24 hours: (602) 223-2212. | Same.
Arkansas | Bernard Bevill, Division of Radiation Control and Emergency Management, Arkansas Department of Health, 4815 West Markham Street, Mail Slot #30, Little Rock, AR 72205-3867, (501) 661-2301, 24 hours: (501) 661-2136. | Same.
California | Captain Andrew R. Jones, California Highway Patrol, Enforcement Services Division, 444 North 3rd St., Suite 310, P.O. Box 942898, Sacramento, CA 94298-0001, (916) 445-1865, 24 hours: 1-(916) 845-8931. | Same.
Colorado | Captain Tommy Wilcoxen, Hazardous Materials Section, Colorado State Patrol, 700 Kipling Street, Suite 1000, Denver, CO 80215-5865, (303) 239-4546, 24 hours: (303) 239-4501. | Same.
Connecticut | Edward L. Wilds, Jr., Ph.D., Director, Division of Radiation, Department of Environmental Protection, 79 Elm Street, Hartford, CT 06106-5127, (860) 424-3029, 24 hours: (860) 424-3333. | Same.
Delaware | James L. Ford, Jr., Department of Safety & Homeland Security, P.O. Box 818, Dover, DE 19903, (302) 744-2665, 24 hours: pager (302) 222-6586. | Same.
Florida | Harlan W. Keaton, Administrator, Bureau of Radiation Control, Environmental Radiation Program, Department of Health, P.O. Box 680069, Orlando, FL 32868-0069, (407) 297-2095. | Same.
Georgia | Captain Bruce Bugg, Special Projects Coordinator, Law Enforcement Division, Georgia Department of Motor Vehicle Safety, P.O. Box 80447, 2206 East View Parkway, Conyers, GA 30013, (678) 413-8825, 24 hours: (404) 655-7484. | Same.
Hawaii | Laurence Lau, Deputy Director for Environmental Health, State of Hawaii Department of Health, P.O. Box 3378, 1250 Punchbowl Street, Honolulu, HI 96813, (808) 586-4424, 24 hours: (808) 247-2191. | Same.
Idaho | Lieutenant William L. Reese, Deputy Commander, Commercial Vehicle Safety, Idaho State Police, P.O. Box 700, Meridian, ID 83680-0700, (208) 884-7222, 24 hours: (208) 846-7500. | Same.
Illinois | Gary N. Wright, Assistant Director, Illinois Emergency Management Agency, 1035 Outer Park Drive, 5th Floor, Springfield, IL 62704, (217) 785-9868, 24 hours: (217) 782-7860. | Same.
Indiana | Superintendent Melvin J. Carraway, Indiana State Police, Indiana Government Center North, 100 North Senate Avenue, Indianapolis, IN 46204, (317) 232-8248. | Same.
Iowa | Ellen M. Gordon, Administrator, Homeland Security Advisor, Iowa Emergency Management Division, Hoover Street Office Building, Level A 1305 East Walnut Street, Des Moines, IA 50319, (515) 281-3231. | Same.
Kansas | Frank H. Moussa, M.S.A., Technological Hazards Administrator, Department of the Adjutant General, Division of Emergency Management, 2800 SW Topeka Boulevard, Topeka, KS 66611-1287, (785) 274-1408, 24 hours: (785) 296-8013. | Same.
Kentucky | Robert Johnson, Manager, Radiation Health and Toxic Agents Branch, Cabinet for Health Services, 275 East Main Street, Mail Stop HS-2E-D, Frankfort, KY 40621-0001, (502) 564-7818, ext. 3697, 24 hours: (502) 330-7660. | Same.
Louisiana | Captain Robert Pinero, Louisiana State Police, 7919 Independence Boulevard, P.O. Box 66614 (#A2621), Baton Rouge, LA 70896-6614, (225) 925-6113, ext. 270, 24 hours: (877) 925-6595. | Same.
Maine | Colonel Craig Poulin, Chief of the State Police, Maine Department of Public Safety, 42 State House Station, Augusta, ME 04333, (207) 624-7000. | Same.
Maryland | Michael Bennett, Director, Maryland State Police, Electronic Systems Division, 1201 Reisterstown Road, Pikesville, MD 21208, (410) 653-4229, 24 hours: (410) 653-4200. | Same.
Massachusetts | Robert J. Walker, Director, Radiation Control Program, Massachusetts Department of Public Health, 90 Washington Street, Dorchester, MA 02121, (617) 427-2944 ext. 2001, 24 hours: (617) 427-2913. | Same.
Michigan | Captain Dan Smith, Commander, Special Operations Division, Michigan State Police, 714 South Harrison Road, East Lansing, MI 48823, (517) 336-6187, 24 hours: (517) 336-6100. | Same.
Minnesota | John R. Kerr, Assistant Director, Administration and Recovery, Minnesota Division of Homeland Security, & Emergency Management, 444 Cedar Street, Suite 223, St. Paul, MN 55101, (651) 296-0481, 24 hours: (651) 649-5451. | Same.
Mississippi | Robert R. Latham, Jr., Emergency Management Agency, P.O. Box 4501, Fondren Station, Jackson, MS 39296-4501, (601) 960-9020, 24 hours: (601) 352-9100. | Same.
Missouri | Jerry B. Uhlmann, Director, Emergency Management Agency, P.O. Box 116, Jefferson City, MO 65102, (573) 526-9101, 24 hours: (573) 751-2748. | Same.
Montana | Dan McGowan, Administrator, Montana Disaster & Emergency Services Division, 1900 Williams Street, #4789, P.O. Box 4789, Helena, MT 59604-4789, (406) 841-3911. | Same.
Nebraska | Major Bryan J. Tuma, Nebraska State Patrol, P.O. Box 94907, Lincoln, NE 68509-4907, (402) 479-4950, 24 hours: (402) 471-4545. | Same.
Nevada | Stanley R. Marshall, Supervisor, Radiological Health Section, Bureau of Health Protection Services, Nevada State Health Division, 1179 Fairview Drive, Suite 102, Carson City, NV 89701-5405, (775) 687-5394, ext. 276, 24 hours: (775) 688-2830. | Same.
New Hampshire | Lieutenant Stephen Kace, New Hampshire Department of Safety, James H. Hayes Building, 33 Hazen Drive, Concord, NH 03305, (603) 271-6369, 24 hours: (603) 271-3636. | Same.
New Jersey | Kent Tosch, Chief, Bureau of Nuclear Engineering, Department of Environmental Protection, P.O. Box 415, Trenton, NJ 08625-0415, (609) 984-7700, 24 hours: (609) 658-3072. | Same.
New Mexico | Derrith Watchman-Moore, Deputy Secretary, New Mexico Department of Environment, Office of the Secretary, P.O. Box 26110, 1190 St. Francis Drive, Santa Fe, NM 87502-6110, (505) 827-2855, 24 hours: (505) 249-0157. | Same.
New York | Edward F. Jacoby, Jr., Executive Deputy Director, New York State Emergency Management Office, 1220 Washington Avenue, Building 22—Suite 101, Albany, NY 12226-2251, (518) 457-2222, 24 hours: (518) 457-2200. | Same.
North Carolina | First Sergeant Mark Dalton, Hazardous Materials Coordinator, North Carolina Highway Patrol Headquarters, 4702 Mail Service Center, Raleigh, NC 27699-4702, (919) 733-5282, 24 hours: (919) 733-3861. | Same.
North Dakota | Terry O'Clair, Director, Division of Air Quality, North Dakota Department of Health, 1200 Missouri Avenue, P.O. Box 5520, Bismarck, ND 58506-5520, (701) 328-5188, 24 hours: (701) 328-9921. | Same.
Ohio | Carol A. O'Claire, Chief, Radiological Branch, Ohio Emergency Management Agency, 2855 West Dublin Granville Road, Columbus, OH 43235-2206, (614) 799-3915, 24 hours: (614) 889-7150. | Same.
Oklahoma | Commissioner Kevin L. Ward, Oklahoma Department of Public Safety, P.O. Box 11415, Oklahoma City, OK 73136-0145, (405) 425-2001, 24 hours: (405) 425-2323. | Same.
Oregon | David Stewart-Smith, Administrator, Energy Resources Division, Oregon Office of Energy, 625 Marion Street, NE, Suite 1, Salem, OR 97301-3742, (503) 378-6469, 24 hours: (503) 378-6377. | Same.
Pennsylvania | John Bahnweg, Director of Operations and Training, Pennsylvania Emergency Management Agency, 2605 Interstate Drive, Harrisburg, PA 17110-9364, (717) 651-2001. | Same.
Rhode Island | Terrence Mercer, Associate Administrator, Motor Carriers Section, Division of Public Utilities and Carriers, 89 Jefferson Boulevard, Warwick, RI 02888, (401) 941-4500, Ext. 150, 24 hours: (401) 444-1183. | Same.
South Carolina | Henry J. Porter, Assistant Director, Division of Waste Management, Bureau of Land and Waste Management, Department of Health & Environmental Control, 2600 Bull Street, Columbia, SC 29201, (803) 896-4245, 24 hours: (803) 253-6488. | Same.
South Dakota | Kristi Turman, Director, Emergency Management Agency, 118 W. Capitol Avenue, Pierre, SD 57501-5070, (605) 773-3231. | Same.
Tennessee | Elgan H. Usrey, Manager, Preparedness and Mitigation Division, Tennessee Emergency Management Agency, 3041 Sidco Drive, Nashville, TN 37204-1502, (615) 741-2879, After hours: (Inside TN) 1-800-262-3400, (Outside TN) 1-800-258-3300. | Same.
Texas | Richard A. Ratliff, Chief, Bureau of Radiation Control, Texas Department of Health, 1100 West 49th Street, Austin, TX 78756-3189, (512) 834-6679, (512) 458-7460. | Colonel Thomas A. Davis, Director, Texas Department of Public Safety, Attn: EMS Preparedness Section, P.O. Box 4087, Austin, TX 78773-0223, (512) 424-7771, 24 hours: (512) 424-2208.
Utah | Dane Finerfrock, Director, Division of Radiation Control, Department of Environmental Quality, 168 North 1950 West, P.O. Box 144850, Salt Lake City, UT 84114-4850, (801) 536-4250, After hours: (801) 536-4123. | Same.
Vermont | Colonel Thomas A. Powlovich, Director, Division of State Police, Department of Public Safety, 103 South Main Street, Waterbury, VT 05671-2101, (802) 244-7345. | Same.
Virginia | Brett A. Burdick, Director, Technological Hazards Division, Department of Emergency Management, Commonwealth of Virginia, 10501 Trade Court, Richmond, VA 23236, (804) 897-6500, ext. 6569, 24 hours: (804) 674-2400. | Same.
Washington | Steven L. Kalmbach, Assistant State Fire Marshal, Washington State Patrol Fire Protection Bureau, P.O. Box 42600, Olympia, WA 98504-2600, (360) 750-3119, 24 hours: 1-800-409-4755. | Same.
West Virginia | Colonel H.E. Hill, Jr., Superintendent, West Virginia State Police, 725 Jefferson Road, South Charleston, WV 25309, (304) 746-2111. | Same.
Wisconsin | Edward J. Gleason, Administrator, Division of Emergency Management, 2400 Wright Street, P.O. Box 7865, Madison, WI 53707-7865, (608) 242-3232. | Same.
Wyoming | Captain Vernon Poage, Support Services Officer, Commercial Carriers, Wyoming Highway Patrol, 5300 Bishop Boulevard, Cheyenne, WY 82009-3340, (307) 777-4317, 24 hours: (307) 777-4321. | Same.
District of Columbia | Gregory B. Talley, Program Manager, Radiation Protection Division, Bureau of Food, Drug & Radiation Protection, Department of Health, 51 N Street, NE, Room 6025, Washington, DC 20002, (202) 535-2320, 24 hours: (202) 535-2180. | Same.
Puerto Rico | Esteban Mujica, Chairman, Environmental Quality Board, P.O. Box 11488, San Juan, PR 00910, (787) 767-8056 or (787) 767-8181. | Same.
Guam | Fred M. Castro, Administrator, Guam Environmental Protection Agency, P.O. Box 22439 GMF, Barrigada, Guam 96921, (671) 457-1658 or 1659, 24 hours: (671) 635-9500. | Same.
Virgin Islands | Dean C. Plaskett, Esq., Commissioner, Department of Planning and Natural Resources, Cyril E. King Airport, Terminal Building—Second Floor, St. Thomas, Virgin Islands 00802, (340) 774-3320, 24 hours: (340) 774-5138. | Same.
American Samoa | Peter Peshut, Manager, Technical Services, American Samoa Environmental Protection Agency, P.O. Box PPA, Pago Pago, American Samoa 96799, (684) 633-2304, 24 hours: (684) 622-7106. | Same.
Commonwealth of the Northern Mariana Islands | John Castro, Director, Department of Environmental Quality, Commonwealth of Northern Mariana Islands Government, P.O. Box 501304, Saipan, MP 96950, (670) 664-8500 or 8501, 24 hours: (670) 287-1526. | Same.

[FR Doc. 04-14162 Filed 6-29-04; 8:45 am]

BILLING CODE 7590-01-P